DEPARTMENT OF JUSTICE

Antitrust Division

Notice Pursuant to the National Cooperative Research and Production Act of 1993—Bytecode Alliance Foundation

Notice is hereby given that, on April 20, 2022, pursuant to Section 6(a) of the National Cooperative Research and Production Act of 1993, 15 U.S.C. 4301 et seq. (“the Act”), Bytecode Alliance Foundation has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Amazon Services LCC, Seattle, WA; Arm, Cambridge, UNITED KINGDOM; AsmNext, Incheon, REPUBLIC OF KOREA; Cosmonic, Arlington, VA 22207; DFINITY, Palo Alto, CA; EDJX, Raleigh, NC; Embark Studios, Stockholm, SWEDEN; Fastly, San Francisco, CA; Fermyon, Longmont, CO; Futurewei, Santa Clara, CA; Google, Mountain View, CA; Igalia, A Coruña, SPAIN; InfinyOn, Saratoga, CA; Intel, Santa Clara, CA; Microsoft, Redmond, WA; Midokura, Tokyo, JAPAN; Mozilla, San Francisco, CA; Profian, Raleigh, NC; Rackner, Silver Spring, MD; Shopify, Ottowa, Ontario CANADA; Siemens, Princeton, NJ; SingleStore, San Francisco, CA; Stackblitz, San Francisco, CA; Suborbital, Ottawa, Ontario CANADA; Tangram, Brookline, MA; University of California San Diego, La Jolla, CA; and VMWare, Palo Alto, CA. The general area of Bytecode Alliance Foundation's planned activity is (a) establish a capable, secure platform that allows application developers and service providers to confidently run untrusted code, on any infrastructure, for any operating system or device (the “Platform”); (b) establish, maintain, seek support for, and develop infrastructure projects and technical and infrastructure collaboration initiatives (the “Projects”) related to the Platform, and such other initiatives as may be appropriate to support, enable and promote the Platform; (c) encourage and increase user adoption, involvement with, and contribution to, the Platform; (d) facilitate communication and collaboration among users and developers of the Platform and the Bytecode Alliance; (e) support and maintain policies set by the Board; (f) manage and steward intellectual property rights related to the Platform; and (g) undertake such other activities as may from time to time be appropriate to further the purposes and achieve the goals set forth above.

Suzanne Morris,
Chief, Premerger and Division Statistics, Antitrust Division.

[FR Doc. 2022-10268 Filed 5-12-22; 8:45 am]

BILLING CODE 4410-11-P